DEPARTMENT OF AGRICULTURE

Animal and Plant Health Inspection Service

[Docket No. 01-108-1]

Public Meeting; Veterinary Biologics

AGENCY: Animal and Plant Health Inspection Service, USDA.

ACTION: Advance notice of public meeting and request for suggested agenda topics.

SUMMARY: We are issuing this notice to inform producers and users of veterinary biological products and other interested individuals that we will be holding our 11th annual public meeting to discuss regulatory and policy issues related to the manufacture, distribution, and use of veterinary biological products. We are planning the meeting agenda and are requesting suggestions for topics of general interest to producers and other interested individuals.

DATES: The public meeting will be held from Tuesday, April 2, through Thursday, April 4, 2002, from 8 a.m. to approximately 5 p.m. on Tuesday and Wednesday, and from 8 a.m. to approximately noon on Thursday.

ADDRESSES: The public meeting will be held in the Scheman Building at the Iowa State Center, Iowa State University, Ames, IA.

FOR FURTHER INFORMATION CONTACT: For further information on agenda topics, contact Mr. Steven A. Karli, Director, Center for Veterinary Biologics, VS, APHIS, 510 South 17th Street, Suite 104, Ames, IA 50010-8197; phone (515) 232-5785; fax (515) 232-7120; or e-mail CVB@aphis.usda.gov. For registration information, contact Ms. Kay Wessman at the same address and fax number; phone (515) 232-5785 extension 127; or e-mail kay.wessman@aphis.usda.gov.

SUPPLEMENTARY INFORMATION: Since 1989, the Animal and Plant Health Inspection Service (APHIS) has held 10 public meetings in Ames, IA, on veterinary biologics. The meetings provide an opportunity for the exchange of information among APHIS representatives, producers and users of veterinary biological products, and other interested individuals. APHIS is planning the agenda for the 11th annual public meeting, which will be held April 2 through 4, 2002.

The agenda for the meeting is not yet complete. The theme for this year's public meeting is emergency animal health management. The goal of this year's public meeting is to address issues related to the management of diseases that currently affect or have the potential to affect animal populations in the United States. The agenda may include, but will not be limited to, discussions on: (1) Diagnostics and vaccines—their role in foreign animal disease control; (2) Veterinary Services safeguarding review; (3) biosecurity and response activities; (4) animal care; and (5) international harmonization. In addition, many information stations will be available for the dissemination of information on APHIS' veterinary biologics program.

Before finalizing the agenda, APHIS is seeking suggestions for additional meeting topics from the interested public. We would also like to invite interested individuals to use this meeting to present their ideas and suggestions concerning the licensing, manufacturing, testing, and distribution of veterinary biologics.

Please submit suggested meeting topics and proposed presentation titles to either of the persons listed under FOR FURTHER INFORMATION CONTACT on or before December 21, 2001. For proposed presentations, please include the name(s) of the presenter(s) and the approximate amount of time that will be needed for each presentation.

After the agenda is finalized, APHIS will announce the agenda topics in the Federal Register.

Done in Washington, DC, this 27th day of November, 2001.
W. Ron DeHaven,
Acting Administrator, Animal and Plant Health Inspection Service.

[FR Doc. 01-29725 Filed 11-29-01; 8:45 am]

BILLING CODE 3410-34-U